DEPARTMENT OF TRANSPORTATION

Federal Aviation Administration

14 CFR Part 73

[Airspace Docket No. 99-ANM-15]

RIN 2120-AA66

Establishment and Revision of Restricted Areas, ID

AGENCY: Federal Aviation Administration (FAA), DOT.

ACTION: Final rule.

SUMMARY: This action modifies R-3202A Saylor Creek, ID, by establishing High and Low areas within the existing area A, and revoking R-3202B and C. Additionally this action establishes three new Restricted Areas (R-3204A, B, and C) at Juniper Butte, ID, as part of the Enhanced Training in Idaho (ETI) initiative. The FAA is taking this action in response to a US Air Force (USAF) request for airspace modifications to support its rapid-response air expeditionary wing training requirements.

EFFECTIVE DATE: 0901 UTC, September 6, 2001.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Background

On April 25, 2000, the FAA proposed to revise and establish restricted airspace in Idaho to support the USAF rapid-response air expeditionary wing training requirements (65 FR 24142). Interested parties were invited to participate in this rulemaking proceeding by submitting written comments on the proposal to the FAA.

One comment was received objecting to the proposal from the Wilderness Society representing the Committee for Idaho's High Desert, Idaho Rivers United, Middle Snake River Chapter of the Sierra Club, and the Idaho Conservation League. The Wilderness Society objected to the FAA issuing a proposed rule without being initially notified and kept informed of the issue. They further objected to the Federal Register notice since it did not contain detailed maps of the proposed action.

The FAA does not agree with this commenter. The purpose of the notice of proposed rulemaking (NPRM) was to inform, and solicit, public comments on the overall regulatory, aeronautical, economic, environmental, and energy related impacts of the proposal. While the chart was not published in the Federal Register with the NPRM, the FAA believes that the proposed action contained sufficient information to convey the proposed action. Notwithstanding, the Wilderness Society's comments concerning the environment were reviewed as part of the FAA in-depth review, and adoption, of the “Enhanced Training in Idaho Environmental Impact Statement (ETI EIS).”

Except for editorial changes, this amendment is the same as that proposed in the Notice.

The coordinates for this airspace docket are based on North American Datum 83. Section 73.32 of part 73 of the Federal Aviation Regulations was republished in FAA Order 7400.8H dated September 1, 2000.

The Rule

The FAA amends 14 CFR part 73 (part 73) of the Federal Aviation Regulations and re-designates R-3202A Saylor Creek ID, by reducing its size and sub-dividing the remaining airspace into High and Low areas, raising the ceiling of the high area from FL 180 to FL 290, and revoking R-3202B and C. In addition this action establishes three additional smaller Restricted Areas, R-3204A, R-3204B and R-3204C at Juniper, Butte, ID as part of the USAF ETI initiative.

The new restricted areas permit the safe delivery of training ordnance into an impact area. This action eliminates restricted airspace south of the existing Saylor Creek Range and results in an overall reduction of restricted airspace. The new restricted airspace for the Juniper Butte training range is being established over a 12,000-acre area with one 300-acre ordnance impact area. The USAF has requested these modifications to support its unique rapid-response air expeditionary wing training requirements.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This action was requested by the USAF as part of the ETI initiative, which also includes non-rulemaking airspace actions. Pursuant to Section 102(2) of the National Environmental Policy Act of 1969 (NEPA), regulations of the Council on Environmental Quality implementing NEPA, and other applicable law, the USAF prepared and published a Final Environmental Impact Statement (FEIS) that analyzed the potential environmental impacts associated with the ETI. The USAF issued a Record of Decision (ROD) for the ETI on March 10,1998, and selected the Juniper Butte alternative, which was identified as the environmentally preferred alternative. The ROD, and a Supplement to the ROD issued by the USAF in September 1998, included a number of measures to mitigate environmental impacts. Following litigation regarding the ETI and previous USAF actions in Idaho (Greater Owyhee Legal Defense v. United States Department of Defense et al., No. CIV 92-0189-S-BLW (D. Idaho); The Wilderness Society et al. v. United States Department of Defense et al., No. CIV 96-0326-BLW (D. Idaho); Greater Owyhee Legal Defense v. Col. Gerald F. Pease, Jr. et al., No. CIV 98-0162-S-BLW (D. Idaho); The Wilderness Society and Committee for Idaho's High Desert v. Bureau of Land Management, IBLA No. 99-216 (Interior Board of Land Appeals 1999)), the USAF entered into a Settlement Agreement that included additional mitigation measures and established a Settlement Implementation Group.

The FAA has conducted a written reevaluation of the FEIS in accordance with FAA Order 1050.1D, paragraph 91, and is adopting the FEIS for this action pursuant to 40 CFR 1506.3(a) and (c). A copy of the written reevaluation has been placed in the public docket for this rulemaking. All practicable means to avoid or minimize environmental harm from the alternative selected have been adopted.

The FAA has also approved the non-rulemaking airspace actions included in the ETI initiative. The record of the non-rulemaking decision is contained in a Non-Rulemaking Decision Document (NRDD) dated June 22, 2001. A copy of the NRDD has been placed in the public docket for this rulemaking.

List of Subjects in 14 CFR Part 73

Airspace, Navigation (air).

The Amendment

The FAA amends 14 CFR part 73 as follows:

PART 73—[AMENDED]

1. The authority citation for 14 CFR part 73 continues to read as follows:

Authority: 49 U.S.C. 106(g), 40103, 40113, 40120; E.O. 10854, 24 FR 9565, 3 CFR, 1959-1963 Comp., p. 389.

§ 73.32 [Amended]

2. Section 73.32 is amended as follows:

* * * * *

R-3202A Saylor Creek, ID [Revoke]

R-3202B Saylor Creek, ID [Revoke]

R-3202C Saylor Creek, ID [Revoke]

R-3202 Low Saylor Creek, ID [New]

Boundaries. Beginning at lat. 42°53′00″ N., long. 115°42′20″ W.; at lat. 42°53′00″ N., long. 115°24′15″ W.; at lat. 42°36′00″ N., long. 115°24′15″ W.; at lat. 42°36′00″ N., long. 115°42′20″ W.; to the point of beginning.

Designated altitudes. Surface to but not including FL 180.

Times of use. 0730-2200 local time, Monday through Friday, other times by NOTAM.

Controlling agency. FAA Salt Lake City, ARTCC.

Using agency. USAF, 366th Wing, Mountain Home AFB, ID.

R-3202 High Saylor Creek, ID [New]

Boundaries. Beginning at lat. 42°53′00″ N., long. 115°42′20″ W.; at lat. 42°53′00″ N., long. 115°24′15″ W.; at lat. 42°36′00″ N., long. 115°24′15″ W.; at lat. 42°36′00″ N., long. 115°42′20″ W.; to the point of beginning.

Designated altitudes. FL 180 to FL 290.

Times of use. 0730-2200 local time, Monday through Friday, other times by NOTAM.

Controlling agency. FAA Salt Lake City, ARTCC.

Using agency. USAF, 366th Wing, Mountain Home AFB, ID.

R-3204A Juniper Buttes, ID [New]

Boundaries. Beginning at lat. 42°20′00″ N., long. 115°22′30″ W.; at lat. 42°20′51″ N., long. 115°18′00″ W.; at lat. 42°19′00″ N., long. 115°17′00″ W.; at lat. 42°16′35″ N., long. 115°17′00″ W.; at lat. 42°16′35″ N., long. 115°22′30″ W.; to the point of beginning.

Designated altitudes. Surface to 100 feet AGL.

Times of use. 0730-2200 local time, Monday through Friday, other times by NOTAM.

Controlling agency. FAA Salt Lake City, ARTCC.

Using agency. USAF, 366th Wing, Mountain Home AFB, ID.

R-3204B Juniper Buttes, ID [New]

Boundaries. The airspace within a 5-NM radius centered on (lat.42°18′00″ N., long. 115°20′00″ W.;)

Designated altitudes. 100 feet AGL to but not including FL 180.

Times of use. 0730-2200 local time, Monday through Friday, other times by NOTAM.

Controlling agency. FAA Salt Lake City, ARTCC.

Using agency. USAF, 366th Wing, Mountain Home AFB, ID.

R-3204C Juniper Buttes, ID [New]

Boundaries. The airspace within a 5-NM radius centered on (lat. 42°18′00″ N., long. 115°20′00″ W.;)

Designated altitudes. FL 180 to FL 290.

Times of use. 0730-2200 local time, Monday through Friday, other times by NOTAM.

Controlling agency. FAA Salt Lake City, ARTCC.

Using agency. USAF, 366th Wing, Mountain Home AFB, ID.

* * * * *

Issued in Washington, DC, on June 26, 2001.
Reginald C. Matthews,
Manager, Airspace and Rules Division.

[FR Doc. 01-16603 Filed 6-29-01; 8:45 am]

BILLING CODE 4910-13-P